INTERNATIONAL TRADE COMMISSION

[Investigation No. TA-2104-14]

U.S.-Morocco Free Trade Agreement: Potential Economywide and Selected Sectoral Effects

AGENCY: United States International Trade Commission.

ACTION: Cancellation of public hearing.

EFFECTIVE DATE: April 20, 2004.

SUMMARY: On April 16, 2003, the Commission received notice that the only scheduled witnesses for the hearing for investigation No. TA-2104-14, U.S.-Morocco Free Trade Agreement: Potential Economywide and Selected Sectoral Effects, scheduled for April 29, 2004, have elected to have their written submission serve as a substitute for their oral statement. Therefore, the public hearing in connection with this investigation, scheduled to be held beginning at 9:30 a.m. on April 29, 2004, at the U.S. International Trade Commission Building, 500 E Street, SW., Washington, DC, is canceled. Notice of institution of this investigation and the scheduling of the hearing was published in the Federal Register of March 23, 2004 (69 FR 13583). To be assured of consideration by the Commission, written statements relating to the Commission's report should be submitted at the earliest practical date and should be received not later than COB May 6, 2004. All submissions should be addressed to the Secretary, United States International Trade Commission, 500 E Street, SW., Washington, DC 20436. The Commission's rules do not authorize filing submissions with the Secretary by facsimile or electronic means, except to the extent permitted by section 201.8 of the Commission's Rules (19 CFR 201.8) (see Handbook for Electronic Filing Procedures, ftp://ftp.usitc.gov/pub/reports/electronic_filing_handbook.pdf). Persons with questions regarding electronic filing should contact the Secretary (202-205-2000 or edis@usitc.gov).

FOR FURTHER INFORMATION CONTACT: James Stamps, Project Leader, Office of Economics (202-205-3227 or james.stamps@usitc.gov). For information on the legal aspects of this investigation, contact William Gearhart of the Office of the General Counsel (202-205-3091 or william.gearhart@usitc.gov). For media information, contact Peg O'Laughlin (202-205-1819). Hearing impaired individuals are advised that information on this matter can be obtained by contacting the TDD terminal on (202-205-1810).

List of Subjects

Morocco, tariffs, trade, imports and exports.

By order of the Commission.
Issued: April 20, 2004.
Marilyn R. Abbott,
Secretary to the Commission.

[FR Doc. 04-9366 Filed 4-23-04; 8:45 am]

BILLING CODE 7020-02-P